DEPARTMENT OF THE INTERIOR

Minerals Management Service

Outer Continental Shelf (OCS), Alaska OCS Region, Cook Inlet Planning Area, Proposed Oil and Gas Lease Sale 211 for OCS Oil and Gas Leasing Program for 2007-2012

AGENCY: Minerals Management Service (MMS), Interior.

ACTION: Request for Interest.

SUMMARY: The OCS Oil and Gas Leasing Program for 2007-2012 identifies two potential “special-interest” sales for the Cook Inlet Planning Area in Alaska. The Cook Inlet area is a proven oil and gas province, but past industry interest in the federal offshore area has been limited.

The amount of oil and gas produced in Cook Inlet continues to decline and with changing economic conditions there is renewed interest in finding additional hydrocarbon resources for the South Central Alaska.

This Request for Information (RFI) seeks to determine the level of industry interest, whether it is focused on a few blocks or prospects or if there is industry interest in a larger portion of the planning area.

We are also seeking comments from tribal, local, State, and Federal agencies, and the general public to evaluate whether MMS should proceed with further evaluations pursuant to the Outer Continental Shelf Lands Act (OCSLA), the National Environmental Policy Act (NEPA), the Endangered Species Act (ESA), the Coastal Zone Management Act (CZMA) and all other applicable laws and regulations. We will consider the level of industry interest and other issues and concerns reflected in comments in our determination on how to proceed. The decision to proceed with further evaluation of this special interest sale or to issue another RFI in 2009 will be made after consideration of the comments received and the indication of industry interest in response to this RFI. This RFI does not indicate a preliminary decision to lease in the Program Area.

DATES: Responses to the RFI on proposed Cook Inlet Sale 211 must be received no later than October 6, 2008. Submittals should be labeled “Comments on Proposed Special-Interest Sale 211.”

FOR FURTHER INFORMATION CONTACT: Please contact Dr. Cleve Cowles, Regional Supervisor, Office of Leasing and Environment, Minerals Management Service, Alaska OCS Region, 3801 Centerpoint Drive, Suite 500, Anchorage, Alaska 99503-5820, phone (907) 334-5233, regarding questions on the RFI for this special interest sale.

Request for Information

1. Authority: This RFI is published pursuant to the OCSLA as amended (43 U.S.C. 1331-1356, (1994)), and the regulations issued thereunder (30 CFR 256); and in accordance with the 5-Year OCS Oil and Gas Leasing Program for 2007-2012.

2. Purpose of RFI: This RFI seeks to determine the level of industry interest; whether it is focused on a few blocks or prospects; or if there is industry interest in a larger portion of the planning area. We are also seeking comments from tribal, local, State, and Federal agencies and the general public to evaluate whether MMS should proceed with further evaluations pursuant to the OCSLA, NEPA, ESA, Coastal Zone Management Act (CZMA) and all other applicable laws and regulations.

This information-gathering step is important for ensuring that all pertinent information is provided in response to this RFI so it can be assessed in determining whether to proceed with further evaluation of the “special-interest” leasing process pursuant to the OCSLA and regulations at 30 CFR part 256 or whether MMS should reissue another RFI in 2009. A “special-interest” leasing option allows MMS to consider for further evaluation a very focused (or larger) area of the Cook Inlet Program Area. If companies are interested, they should identify the specific blocks of interest to MMS in writing to the Regional Supervisor, Office of Leasing and Environment, ATTN: Cook Inlet RFI, Alaska OCS Region, Minerals Management Service, 3801 Centerpoint Drive, Ste. 500, Anchorage, Alaska 99503-5823. If companies believe a larger area should be considered, they should explicitly explain their interest, including a summary of the geologic and economic information about the larger area. This letter of interest may include maps, and should include a company contact name, address, and phone number(s) if MMS needs additional information or clarification.

As part of this information gathering request, we are also seeking comments and supporting information from tribal, local, State, and Federal agencies and the general public to determine whether MMS should consider any further evaluation of a focused area or larger portion of the Cook Inlet Program Area pursuant to the OCSLA and other applicable laws and regulations. After the 90-day RFI comment period closes, MMS will decide whether to continue the process after considering the comments received. If industry interest reflected in comments to the RFI does not support further evaluation at this time a RFI will be issued again in 2009 and yearly thereafter through the 5-year schedule until a sale is held or the 5-year schedule expires. If sufficient industry interest is received during the RFI process, including nominations of specific blocks in response to the RFI and after reviewing and considering the other information provided, MMS may recommend to the Assistant Secretary, Land and Minerals Management (ASLM) whether the sale process should be continued as well as the size of the area to be considered for further evaluation (Area Identification). Following Area Identification, the Alaska OCS Region will prepare the appropriate NEPA analysis of potential environmental effects of oil and gas exploration, development, and production in the proposed sale area and its vicinity.

3. Background and Description of the Area: Four Federal sales have been held in the Cook Inlet Planning Area. In October 1977, Sale CI resulted in 88 leases being issued. In September 1981, Sale 60 resulted in 13 leases being issued. A reoffering sale, Sale RS-2, was held in August 1982, but no bids were received and no leases resulted from this sale. Sale 149, held in June 1997 resulted in 2 leases issued. In June 2002, the Department of the Interior issued the OCS Oil and Gas Leasing Program for 2002-2007. Two Cook Inlet Sales, 191 and 199, were included. The EIS for Sales 191 and 199 was issued in December 2002, and all other pre-sale steps completed by early 2004. The sale was scheduled for May 2004. However, no bids were submitted for Sale 191. The MMS issued other solicitations to determine industry interest in Cook Inlet, but company interest remained low. Lease Sale 199 was canceled.

Over the years, there have been 13 exploratory wells drilled on Federal leases in Cook Inlet and all have been permanently plugged and abandoned. Two leases from Sale 149 (part of the Cosmopolitan Unit) are under suspension of operations. Exploration activities for the unit are occurring from onshore. The Alaska OCS Region document “Undiscovered Oil and Gas Resources, Alaska Federal Offshore, December 2006 Update” estimates the mean undiscovered technically recoverable resources for the planning area at 1.01 billion barrels of oil and condensate and 1.2 trillion cubic feet of gas. http://www.mms.gov/alaska/re/reports/2006Asmt/index.HTM.

The Cook Inlet Program Area is located offshore the State of Alaska just south of Kalgin Island and the Barren Islands and continues south through Shelikof Strait to just above the southern tip of Kodiak Island (see attached map). The Cook Inlet Program Area consists of approximately 1,093 whole and partial blocks covering about 2.1 million hectares (about 5.3 million acres). It extends offshore from 3 to approximately 60 nautical miles in water depths from about 30 feet to approximately 650 feet. A page-size map of the Program Area accompanies this RFI. A large scale RFI map showing the boundaries of the Program Area on a block-by-block basis is available on the MMS Web site at http://www.mms.gov/alaska/cproject/cookinlet211/index.htm. Official Protraction Diagrams numbers located in the Cook Inlet Planning Area are identified on both the page-sized and large-scale Call maps available for no charge at the Web site: http://www.mms.gov/ld/alaska.htm.

4. Instructions on RFI: Specific nominations demonstrating industry interest are being sought regarding the oil and gas industry area(s) of interest for potential exploration and development and production. Comments on the RFI are requested concerning any environmental, social, or economic information or issues commenters believe will assist the MMS in making its decision.

Responses to this RFI must be received by October 6, 2008. Submittals should indicate “Responses to RFI for Proposed Cook Inlet Special-Interest Lease Sale 211.” The RFI Map nominations and specific indications of interest, and/or comments must be submitted to the Regional Supervisor, Leasing and Environment as noted below.

The RFI may be submitted by any one of the following methods:

• Mail or hand-deliver comments to the Regional Supervisor, Office of Leasing and Environment; ATTN: Cook Inlet RFI; Alaska OCS Region, Minerals Management Service; 3801 Centerpoint Drive, Suite 500; Anchorage, Alaska 99503-5823.

• Submit comments by Internet through MMS Public Connect at http://ocsconnect.mms.gov/pcs-public/.

• Fax comments to the Regional Supervisor, Office of Leasing and Environment; Alaska OCS Region, Minerals Management Service at (907) 334-5242.

Please submit Internet comments as an ASCII file, avoiding the use of special characters and any form of encryption. Please also include your name and return address in your Internet message. If you do not receive a confirmation from the system that we have received your Internet message, please contact us directly at 1-800-764-2627.

Company comments about specific levels of interest and/or specific areas of interest will be considered proprietary and confidential information, although the identities of those submitting nominations become a matter of public record. To avoid inadvertent release of proprietary information, please mark all documents “Confidential—Contains Proprietary Information” on every page containing such information. Respondents are requested to comment on the area of the Federal boundaries of the Cook Inlet Planning Area.

Respondents should rank areas in which they have nominations according to priority of interest; for example, priority 1 (high) or 2 (medium) on a large-sale RFI map available at http://www.mms.gov/cproject/cookinlet211/index.htm. Respondents are encouraged to be specific in indicating blocks by priority and be prepared to discuss their range of interest and activity regarding the nominated area(s). Please provide the telephone number and name of a person to contact in the organization's response. The Alaska OCS Regional Office may contact this person to set up a mutually agreeable meeting to more fully review the company's level of interest.

Comments and information are sought from all interested parties about particular geological (including natural hazard areas), environmental, biological, archaeological, and socioeconomic conditions or potential conflicts, or other information that might bear upon the potential leasing, exploration, and development of the program area and vicinity. Comments and information are also sought on possible conflicts between future OCS oil and gas activities that may result from the proposed sale and the standards of the Alaska Coastal Management Program (CMP) and the enforceable policies of an approved local district coastal management plan. These comments should identify specific CMP policies of concern, the nature of the conflict foreseen, and steps that MMS could take to avoid or mitigate the potential conflict. Comments may be in terms of broad areas or restricted to particular blocks or areas of concern. Those submitting comments and information are requested to list block numbers or outline the subject area on the RFI Map. Our practice is to make comments, including names and addresses of respondents, available for public review during regular business hours. Individual respondents may request that we withhold their address from the rulemaking record, which we will honor to the extent allowable by law. There also may be circumstances in which we would withhold a respondent's identity, to the extent allowable by law. If you wish us to withhold your name or address, you must state this prominently at the beginning of your comment. However, we will not consider anonymous comments. We will make all submissions from organizations or businesses, and from individuals identifying themselves as representatives or officials of organizations or businesses, available for public inspection in their entirety. Any specific information submitted by industry about their interest will remain proprietary when marked as such.

5. Use of RFI Information: Information submitted in response to this RFI will be used for several purposes. Responses will be used to:

—Determine whether to proceed with the leasing process for a special-interest oil and gas lease sale in the Cook Inlet Program Area;

—Identify specific areas of interest for oil and/or gas exploration and development;

—Identify potential environmental effects and potential use conflicts;

—Develop the appropriate level of environmental analysis needed if the level of industry interest is such that MMS recommends proceeding with the special-interest sale;

—Develop lease terms and conditions/mitigating measures; and

—Identify potential conflicts between oil and gas activities and the Alaska CMP.

6. Existing Information: An extensive environmental, social, and economic Studies Program has been underway in the Alaska OCS Region since 1976, including studies in this area. The emphasis has been on environmental characterization of biologically sensitive habitats, endangered whales and marine mammals, physical oceanography, ocean-circulation modeling, subsistence uses, and ecological and socio-cultural effects of oil and gas activities. Environmental Impact Statements were prepared for each of the OCS sales held in the Cook Inlet Planning Area.

Information on the MMS Environmental Studies Program, completed studies, and a program status report for continuing studies in this area are available on the MMS Web site http://www.mms.gov/alaska/, or may be obtained from the Chief, Environmental Studies Section, Alaska OCS Region, by telephone request at (907) 334-5230, or by written request to: Chief, Environmental Studies Section; ATTN: Cook Inlet RFI; Alaska OCS Region, Minerals Management Service; 3801 Centerpoint Drive, Suite 500; Anchorage, Alaska 99503-5823. A request may also be made via the Alaska OCS Region Web site to akwebmaster@mms.gov.

BILLING CODE 4310-MR-P

Dated: June 13, 2008.
Randall B. Luthi,
Director, Minerals Management Service.

[FR Doc. E8-15444 Filed 7-7-08; 8:45 am]

BILLING CODE 4310-MR-C